DEPARTMENT OF THE INTERIOR

National Park Service

[NPS-WASO-NAGPRA-NPS0024613; PPWOCRADN0-PCU00RP14.R50000]

Notice of Intent To Repatriate Cultural Items: History Colorado, Formerly Colorado Historical Society, Denver, CO

AGENCY: National Park Service, Interior.

ACTION: Notice.

SUMMARY: History Colorado, formerly Colorado Historical Society, in consultation with the appropriate Indian Tribes or Native Hawaiian organizations, has determined that the cultural items listed in this notice meet the definition of unassociated funerary objects. Lineal descendants or representatives of any Indian Tribe or Native Hawaiian organization not identified in this notice that wish to claim these cultural items should submit a written request to History Colorado. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to History Colorado at the address in this notice by March 1, 2018.

ADDRESSES: Sheila Goff, NAGPRA Liaison, History Colorado, 1200 Broadway, Denver, CO 80203, telephone (303) 866-4531, email sheila.goff@state.co.us.

SUPPLEMENTARY INFORMATION: Notice is here given in accordance with the Native American Graves Protection and Repatriation Act (NAGPRA), 25 U.S.C. 3005, of the intent to repatriate cultural items under the control of History Colorado, Denver, CO, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the winter of 1888-1889, 13 cultural items were removed from burials in the Mesa Verde area in Montezuma County, CO, by Richard Wetherill, Al Wetherill, and Charlie Mason. The cultural items were removed from Cliff Palace, Spruce Tree, Square Tower, Balcony, Mummy, Spring, Long, Mug, High, Kodak, and Step Houses, and other cliff dwellings and mesa top ruins in Navajo, Acowitz, Johnson, Grass, Mancos, Weber, and Moccasin Canyons. History Colorado purchased the collection in 1889. The 13 unassociated funerary objects are 1 black-on-white bowl, 1 cotton cloth fragment, 4 turkey feather blankets or fragments, 1 cordage fragment, 2 arrow fragments, 3 willow reed burial mats, and 1 twill-plaited mat. The associated human remains were not collected. Based on material culture and site architecture, the sites where the objects were collected were occupied during the Pueblo II-III periods, A.D. 900-1300.

In 1892, 59 cultural items were removed from burials in the Mesa Verde area in Montezuma County, CO, by Arthur Wilmarth, D.W. Ayers, and Al and/or Richard Wetherill. The cultural items were removed largely from Step House, but also from Cliff Palace, Tower, Balcony, Mug, Mummy, and Spruce Tree Houses. This collection was funded by the Colorado State Legislature to be part of Colorado's exhibit at the 1893 World's Columbian Exposition in Chicago. The collection was transferred to the Colorado Historical Society after the Exposition. The 59 unassociated funerary objects are 16 black-on-white bowls, 8 black-on-white or grayware jars, 4 black-on-white mugs, 7 black-on-white ladles, 2 black-on-white pot lids, 1 black-on-white effigy jar, 1 black-on-white canteen, 5 black-on-white pitchers, 1 bone awl, 2 wood pillows, 1 bow, 4 arrow fragments, 2 turkey feather blanket fragments, 3 willow reed burial mats, 1 twill-plaited mat fragment and 1 bone bead. The associated human remains were not collected. Based on material culture and site architecture, the sites where the objects were collected were occupied during the Pueblo II-III periods, A.D. 900-1300.

In the winter of 1888-1889 or in 1892, six cultural items were removed from burials in the Mesa Verde area in Montezuma County, CO, by the above collectors. Incomplete museum records do not allow determination of specifically who collected the cultural items. The six unassociated funerary objects are 1 piki mold, 1 turkey feather blanket, and 4 willow reed burial mats. Based on material culture, these artifacts were produced during the Pueblo II-III periods, A.D. 900-1300 or earlier.

In 1917, one cultural item was removed from a grave west of Golden in Jefferson County, CO, by staff from the State Highway Commission during work operations. The cultural item was transferred to History Colorado in 1918. The unassociated funerary object, 1 Olivella shell necklace, was identified as Ancestral Puebloan during consultations. The associated human remains were not removed.

Between 1921 and 1924, three cultural items were removed from a burial context in a pithouse on private property in Archuleta County, CO, by History Colorado Curator Jean A. Jeancon and Frank H.H. Roberts, an instructor at University of Denver, both of whom conducted archeological investigations at and around Chimney Rock Pueblo in Archuleta County, CO. The three unassociated funerary objects are 1 black-on-white mountain sheep figurine and 2 clay pipes. The associated human remains were not removed. Site architecture and material culture indicate the items were made sometime in the Pueblo I-III periods, A.D. 750-1300.

In 1928, 40 cultural items were removed from a burial context on private land known as Herren Farm (5MT726) in Montezuma County, CO, by Paul S. Martin. Mr. Martin was employed as a curator by History Colorado for archeological reconnaissance, survey and excavation in southwest Colorado. The 40 unassociated funerary objects are 2 corrugated cooking jars, 1 black-on-white jar, 12 black-on-white bowls, 16 black-on-white mugs, 6 black-on-white ladles, 1 black-on-white seed jar, 1 black-on-white pitcher, and 1 canine jaw. The associated human remains were not collected. Based on material culture and site architecture the site was occupied during the Pueblo II-III periods, A.D. 900-1300.

In 1928, 28 cultural items were removed from private land identified as Charnal House Tower in Montezuma County, CO, by Paul S. Martin. The 28 unassociated funerary objects are 11 corrugated cooking jars, 1 black-on-white jar, 3 black-on-white bowls, 5 black-on-white mugs, 1 black-on-white ladle, 1 black-on-white seed jar, 1 stone slab, 1 reed burial mat fragment, 1 bone necklace, 1 pair of shell earrings, and 2 stone pendants. The associated human remains were not collected. Based on material culture and site architecture the site was occupied during the Pueblo II-III periods, A.D. 900-1300.

In 1929, 17 cultural items were removed from a burial context on private land known as Little Dog Ruin (5MT13403) in Montezuma County, CO, by Paul S. Martin. The 17 unassociated funerary objects are 3 black-on-white seed jars, 5 black-on-white bowls, 4 black-on-white mugs, 1 black-on-white ladle, 1 black-on-white effigy jar, and 3 black-on-white pitchers. The associated human remains were not removed. Based on material culture and site architecture the site was occupied during the Basketmaker III and Pueblo I periods, A.D. 500-900.

In 1929, nine cultural items were removed from a burial context on private land known as Pigg Site (5MT4802) in Montezuma County, CO, by Paul S. Martin. The nine unassociated funerary objects are 2 black-on-white bowls, 1 black-on-red bowl, 3 black-on-white mugs, 1 black-on-white ladle, 1 black-on-white pot lid and 1 black-on-white seed jar. The associated human remains were not removed. Based on material culture and site architecture the site was occupied during the Pueblo II-III periods, A.D. 900-1300.

At some time prior to 1933, four cultural items were removed from a burial context at an unspecified site near Durango in La Plata County, CO, by Fred Johnson. The cultural items were donated to History Colorado in 1933. The four unassociated funerary objects are 1 grayware seed jar, 1 grayware bowl, 1 grayware pitcher and 1 sandstone concretion. The associated human remains were not removed. Pottery attributes indicate these were made during the Pueblo I-III periods, A.D. 750-1300.

At some time prior to 1935, 11 cultural items were removed from a burial context at an unspecified site on private property at the head of Yellow Jacket Canyon in Montezuma County, CO, by Homer S. Root, a minister from Durango, CO. In 1935, History Colorado purchased the cultural items. The 11 unassociated funerary objects are 5 black-on-white bowls, 4 black-on-white mugs, and 2 black-on-white ladles. Pottery attributes indicate the cultural items were made during the Pueblo III period, A.D. 1150-1300. The associated human remains were not removed.

At some time prior to 1935, 10 unassociated funerary objects were removed from a burial context at a burial context on an unspecified site on private property in Blue Mesa in La Plata County, CO, by Homer S. Root. In 1935, History Colorado purchased the cultural items. The 10 unassociated funerary objects are 4 black-on-white bowls, 1 grayware mug, 1 grayware jar, 1 grayware double vessel, and 3 grayware pitchers. The associated human remains were not removed. Pottery attributes indicate the cultural items were made during the Basketmaker III/Pueblo I periods, A.D. 500-900.

At some time prior to 1935, two unassociated funerary objects were removed from a burial context at an unspecified site on private property in Florida Mesa in La Plata County, CO, by Homer S. Root. In 1935, History Colorado purchased the cultural items. The two unassociated funerary objects are 1 grayware pitcher and 1 lot of Olivella shell beads. The associated human remains were not removed. Pottery attributes indicate the cultural items were made during the Basketmaker III/Pueblo I periods, A.D. 500-900.

At some time prior to 1935, nine unassociated funerary objects were removed from a burial context at an unspecified site on private property in Wild Horse Canyon in La Plata County, CO, by Homer S. Root. In 1935, History Colorado purchased the cultural items. The nine unassociated funerary objects are 3 black-on-white bowls, 2 black-on-red bowls, 1 red ware jar, 2 grayware jars, and 1 grayware pitcher. The associated human remains were not removed. Pottery attributes indicate the cultural items were made during the Basketmaker III/Pueblo I periods, A.D. 500-900.

At some time prior to 1943, four cultural items were removed from burial contexts at unspecified sites in Colorado, New Mexico, Arizona, or Utah by James Mellinger. Mr. Mellinger willed his collection to History Colorado in 1943, and it was transferred to History Colorado in 1967. The four unassociated funerary objects are 1 grayware jar and 1 black-on-white bowl from Blue Mesa, CO, 1 turkey feather blanket from an unspecified site, and 1 twill-plaited basket from the Grand Gulch, UT, area. The associated human remains were not collected. Pottery attributes of two items indicate they were made in the Basketmaker/Pueblo I period, A.D. 500-900. The other two items lack sufficient context to date them.

At some time prior to 1956, two cultural items were removed from a burial context at an unspecified site in the Dove Creek area in Dolores County, CO, by Virgil Mathews. The cultural items were donated to History Colorado in 1956. The two unassociated funerary objects are 1 black-on-white pitcher, and 1 grayware bowl. The associated human remains were not collected. Pottery attributes of the two items indicate they were made in the Pueblo II period, A.D. 900-1150.

At some time prior to 1967, one cultural item was removed from a burial context at an unspecified site in Montezuma Canyon, San Juan County, UT, by an unknown person, later purchased by Vida Ellison, and willed to History Colorado in 1967 as part of an archeological collection. The one unassociated funerary object is 1 mud ware bowl. Pottery attributes indicate it was made in the Basketmaker III period, A.D. 500-750.

At some time prior to 1987, one cultural item was removed by an unknown person from a burial context at an unspecified site and accessioned into the History Colorado collection in 1987. The unassociated funerary object is 1 black-on-white seed jar. The associated remains were not collected. Pottery attributes indicate it was made in the Pueblo II period, A.D. 900-1150.

At an unknown date, two cultural items were removed from burial contexts at unspecified sites and placed into the History Colorado collection. The two cultural items are 1 turkey feather blanket fragment and 1 corrugated cooking jar. Attributes of both cultural items indicate they were made in the Pueblo I-III period, A.D. 750-1300.

The cultural affiliation of these unassociated funerary objects with present-day Native Americans was determined through the use of the following lines of evidence: geographical, kinship, biological, archeological, anthropological, linguistic, oral tradition, historical and expert opinion. Evidence was gathered from consultations with Indian Tribes, physical examination, survey of acquisition history, review of pertinent archeological, ethnographic, historic, anthropological and linguistic literature, and artifact analysis. Similarities in site architecture and material culture associated with the unassociated funerary objects are consistent with Ancestral Puebloan occupation of the southwestern United States, from the Basketmaker I period through the Pueblo III period (between approximately 1000 B.C. and A.D. 1300). Ancestral Puebloan ceramic typologies and perishables analyses helped to identify chronological and geographical technological traditions. After approximately A.D. 1300, multiple factors caused Pueblo populations to leave the Four Corners region and resettle in Pueblos along the Northern Rio Grande and in the Pueblos of Acoma, Zuni, Ysleta del Sur, and Hopi. Extant oral traditions corroborate dynamic population movements within the region during this time.

Determinations Made by History Colorado

Officials of History Colorado have determined that:

• Pursuant to 25 U.S.C. 3001(3)(B), and based on existing museum documentation, the 222 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona; Kewa Pueblo, New Mexico (previously listed as the Pueblo of Santo Domingo); Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Ysleta del Sur Pueblo (previously listed as the Ysleta Del Sur Pueblo of Texas); and Zuni Tribe of the Zuni Reservation, New Mexico (hereafter referred to as “The Culturally Affiliated Tribes”).

Additional Requestors and Disposition

Lineal descendants or representatives of any Indian Tribe or Native Hawaiian organization not identified in this notice that wish to claim these cultural items should submit a written request with information in support of the claim to Sheila Goff, NAGPRA Liaison, History Colorado, 1200 Broadway, Denver, CO 80203, telephone (303) 866-4531, email sheila.goff@state.co.us, by March 1, 2018. After that date, if no additional claimants have come forward, transfer of control of the unassociated funerary objects to The Culturally Affiliated Tribes may proceed.

History Colorado is responsible for notifying the Hopi Tribe of Arizona; Kewa Pueblo, New Mexico (previously listed as the Pueblo of Santo Domingo); Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Southern Ute Indian Tribe of the Southern Ute Reservation, Colorado; Ute Mountain Ute Tribe (previously listed as the Ute Mountain Tribe of the Ute Mountain Reservation, Colorado, New Mexico & Utah); Ysleta del Sur Pueblo (previously listed as the Ysleta Del Sur Pueblo of Texas); and Zuni Tribe of the Zuni Reservation, New Mexico, that this notice has been published.

Dated: November 1, 2017.
Melanie O'Brien,
Manager, National NAGPRA Program.

[FR Doc. 2018-01724 Filed 1-29-18; 8:45 am]

BILLING CODE 4312-52-P